DEPARTMENT OF LABOR

Employment and Training Administration

[TA-W-38,852]

Lucia, Inc., Winston-Salem, North Carolina; Amended Certification Regarding Eligibility To Apply for Worker Adjustment Assistance

In accordance with Section 223 of the Trade Act of 1974 (19 U.S.C. 2273) the Department of Labor issued a Certification of Eligibility to Apply for Worker Adjustment Assistance on June 11, 2001, applicable to workers of Lucia, Inc., Winston-Salem, North Carolina. The notice was published in the Federal Register on June 27, 2001 (FR 66 34254).

At the request of the State agency, the Department reviewed the certification for workers of the subject firm. The workers produce ladies' apparel. New findings show that there was a previous certification, TA-W-35,829, as amended, issued on March 31, 1999 for workers of Lucia, Inc., Winston-Salem North Carolina who were engaged in employment related to the production of ladies' apparel. That certification expired March 31, 2001. To avoid an overlap in worker group coverage, this certification is being amended to change the impact date from March 2, 2000 to April 1, 2001, for workers of the subject firm.

The amended notice applicable to TA-W-38,852 is hereby issued as follows:

All workers of Lucia, Inc., Winston-Salem, North Carolina who became totally or partially separated from employment on or after April 1, 2001, through June 11, 2003, are eligible to apply for adjustment assistance under Section 223 of the Trade Act of 1974.

Signed at Washington, DC this 15th day of August, 2001.
Linda G. Poole,
Certifying Officer, Division of Trade Adjustment Assistance.

[FR Doc. 01-21837 Filed 8-28-01; 8:45 am]

BILLING CODE 4510-30-M